FEDERAL COMMUNICATIONS COMMISSION

47 CFR Part 73

[MB Docket No. 22-405; FCC 24-105; FR ID 292650]

FM Terrestrial Digital Audio Broadcasting Systems

AGENCY: Federal Communications Commission.

ACTION: Final rule; announcement of effective date.

SUMMARY: In this document, the Federal Communications Commission (Commission) announces that the Office of Management and Budget (OMB) has approved revisions to the information collection requirements under OMB Control Number 3060-1034, as associated with the amended adopted in the Federal Communications Commission's First Report and Order: Rules for FM Terrestrial Digital Audio Broadcasting Systems, FCC 24-105 (FM Digital First R&O). This FM Digital First R&O permits the operation of digital FM stations with asymmetric power levels on the digital sidebands and the accompanying use of FCC 2100, Schedule 335-FM to notify the Commission of such operations. This document is consistent with the FM Digital First R&O, which states that the Commission will publish a document in the Federal Register announcing the effective date for these amended rule sections and revise the rules accordingly.

DATES: Effective May 23, 2025. The amendments to instruction 4 (47 CFR 73.404) and instruction 5 (47 CFR 73.406), published at 89 FR 84096 on Oct. 21, 2024, are effective May 23, 2025.

FOR FURTHER INFORMATION CONTACT: Cathy Williams, Office of the Managing Director, Federal Communications Commission, at (202) 418-2918 or Cathy.Williams@fcc.gov.

SUPPLEMENTARY INFORMATION: This document announces that the Office of Management and Budget (OMB) approved the information collection requirements in 47 CFR 73.404 and 73.406 on April 18, 2025. These rule sections were adopted in the FM Digital First R&O, FCC 24-105. The Commission publishes this document as an announcement of the effective date for these amended rules.

If you have any comments on the burden estimates listed below, or how the Commission can improve the collections and reduce any burdens caused thereby, please contact Cathy Williams, Cathy.Williams@fcc.gov. Please include the OMB Control Number in your correspondence. The Commission will also accept your comments via email at PRA@fcc.gov.

Synopsis

As required by the Paperwork Reduction Act of 1995 (44 U.S.C. 3507), the Commission is notifying the public that it received final OMB approval on April 18, 2025, for the information collection requirements contained in 47 CFR 73.404 and 73.406. Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 73.404 and 73.406 is 3060-1034.

The foregoing notice is required by the Paperwork Reduction Act of 1995, Public Law 104-13, October 1, 1995, and 44 U.S.C. 3507.

The total annual reporting burdens and costs for the respondents are as follows:

OMB Control Number: 3060-1034.

Title: Digital Audio Broadcasting Systems and their Impact on the Terrestrial Radio Broadcast Service; Form 2100, Schedule 335-FM—FM Digital Notification; Form 2100, Schedule 335-AM—AM Digital Notification.

Form Number: Form 2100, Schedule 335-FM.

Respondents: Business or other for-profit entities.

Number of Respondents and Responses: 215 respondents; 215 responses.

Estimated Hours per Response: 1 hour-8 hours.

Frequency of Response: On occasion reporting requirement.

Total Annual Burden: 345 hours.

Total Annual Cost: $128,250.

Obligation to Respond: Required to obtain or retain benefits. The statutory authority for this collection of information is contained in sections 154(i), 303, 310 and 553 of the Communications Act of 1934, as amended.

Needs and Uses: On September 24, 2024, the Commission adopted the First Report and Order in the Modifying Rules for FM Terrestrial Digital Audio Broadcasting System, MB Docket No. 22-405, FCC 24-105 (FM Digital First R&O) proceeding, to allow digital FM station operation with asymmetric power on the digital sidebands. This asymmetric sideband operation will allow digital FM stations to operate with different power levels on the upper and lower digital sidebands, as a way to facilitate greater digital FM radio coverage without interfering with adjacent-channel FM stations, upon notification to the Commission on FCC Form 2100, Schedule 335-FM. Prior to adoption of the FM Digital First R&O, an FM digital station that wished to employ asymmetric sideband operation had to apply for an experimental authorization and renew that authorization annually. Initiating such operation by notification rather than experimental authorization will be simpler and less expensive to the licensee, and thus less burdensome. Additionally, eliminating the requirement of annual experimental authorization will remove a regulatory barrier and incentivize more digital FM stations to adopt such operations. This submission was therefore made to OMB for approval of new or modified Information Collection requirements stemming from the FM Digital First R&O.

The changes as adopted in the FM Digital First R&O require modifications to Schedule 335-FM and rule §§ 73.404 and 73.406. Specifically, the FM Digital First R&O permits digital FM stations to use asymmetric sideband operation by notifying the Commission using Schedule 335-FM, and modifies that schedule by including fields to report the digital ERP being transmitted on each digital sideband, as well as the total digital ERP. Therefore, Schedule 335-FM is being amended to provide fields for the notifying station to indicate the digital ERP transmitted on each digital sideband, as well as the total digital ERP.

The Commission also made an administrative change to the procedures used by FM station licensees seeking to increase digital power above −14 dBc. Those requests, previously submitted by “informal request,” will now be submitted using Schedule 335-FM. After the effective date of the rules adopted in the First Digital R&O, digital FM stations must use Schedule 335-FM to request an increase in total digital ERP above −14 dBc, using Table 1 to 73.404(f), and will also report certain digital power decreases on Schedule 335-FM. In sum, after the effective date of the FM Digital First R&O, a digital FM station will report the following actions (or request authority in the case of an increase of total digital ERP above −14 dBc) by submitting Schedule 335-FM: the initiation of hybrid digital operation; the initiation of asymmetric sideband operation at any power level, as well as the discontinuance of asymmetric sideband operation; an increase of total digital ERP above −14 dBc; or a decrease in total digital ERP from a level above −14 dBc to a level at or below −14 dBc. As required with the current informal request process, a station choosing to operate with total digital ERP between −14 dBc and −10 dBc must attach an exhibit demonstrating that the proposed FM digital ERP is permitted for each digital sideband, using Table 1 to 73.404(f). This exhibit will now be an attachment to the Schedule 335-FM submission. As is the case with the current informal request process, a digital FM station choosing to operate with total digital ERP above −14 dBc may initiate such operation upon approval from the Commission.

Schedule 335-FM is amended as follows:

a. To include a question for the notifying station to report when asymmetric sideband operations commenced.

b. To provide fields for the notifying station to indicate the digital ERP transmitted on each digital sideband, as well as the total digital ERP.

c. To include a question for the notifying station to report that it has discontinued digital broadcasts and/or asymmetric sideband operations, and provide the date of the discontinuance.

d. To include a question for the notifying station to report that the total digital ERP (listed in a previous item of the schedule) is greater than −14 dBc. A station choosing to operate with total digital ERP between −14 dBc and −10 dBc must attach an exhibit demonstrating that the proposed FM digital ERP is permitted for each digital sideband, using Table 1 in § 73.404(f).

e. To include a question for the notifying station to report a decrease in the total digital ERP to −14 dBc or below, and provide the date on which such decreased digital ERP operations commenced.

Moreover, to implement the new or modified information collection requirements contained in the FM Digital First R&O, § 73.404(e) and (f) of the rules are revised to allow digital FM stations to use asymmetric power on the digital sidebands and to use the “Maximum permissible FM digital ERP per-sideband” Table to comport with the current limits on FM digital ERP.

Additionally, the newly adopted digital FM notification requirements are added to rule § 73.406 in new paragraphs (d)(5) and (d)(6).

Federal Communications Commission.
Marlene Dortch,
Secretary.

[FR Doc. 2025-09278 Filed 5-22-25; 8:45 am]

BILLING CODE 6712-01-P